DEPARTMENT OF COMMERCE

National Oceanic and Atmospheric Administration

RIN 0648-XE107

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Scientific and Statistical Committee's (SSC) Scientific Uncertainty Subcommittee will hold a public meeting.

DATES: The meeting will be held on Thursday, September 10, 2015, from 9 a.m. to 5 p.m. For agenda details, see SUPPLEMENTARY INFORMATION.

ADDRESSES: The meeting will be held at the Double Tree by Hilton Baltimore-BWI Airport, 890 Elkridge Landing Road, Linthicum, MD 21090; telephone: (410) 859-8400.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council, telephone: (302) 526-5255.

SUPPLEMENTARY INFORMATION: The purpose of the meeting is to conduct a peer review of a scientific analysis submitted to the SSC at its July 2015 meeting concerning the use of data limited methods to specify the overfishing limit and acceptable biological catch for the northern stock (Cape Hatteras, North Carolina to Maine) of black sea bass (Centropristis striata). Pending the results of this review, this information/analysis may be used by the SSC in setting catch limits for this species for the fishing years 2016-17.

Special Accommodations

The meeting is physically accessible to people with disabilities. Requests for sign language interpretation or other auxiliary aid should be directed to M. Jan Saunders, (302) 526-5251, at least 5 days prior to the meeting date.

Dated: August 13, 2015.
Tracey L. Thompson,
Acting Deputy Director, Office of Sustainable Fisheries, National Marine Fisheries Service.

[FR Doc. 2015-20339 Filed 8-17-15; 8:45 am]

BILLING CODE 3510-22-P